OFFICE OF GOVERNMENT ETHICS

Issuance and Revocation of Temporary Post-Employment Waiver

Correction

In notice document 02-22204 beginning on page 55844 in the issue of Friday, August 30, 2002, make the following correction:

On page 55844, in the EFFECTIVE DATE: section, “October 29, 2002” should read “November 29, 2002”.

[FR Doc. C2-22204 Filed 9-5-02; 8:45 am]

BILLING CODE 1505-01-D

DEPARTMENT OF HEALTH AND HUMAN SERVICES

Office of Inspector General

Publication of OIG Special Advisory Bulletin on Offering Gifts and Other Inducements to Beneficiaries

Correction

In notice document 02-22124 beginning on page 55855 in the issue of Friday, August 30, 2002, make the following correction:

On page 55858, in the first column, in the fourth full paragraph, in the second line from the bottom, the web address “http://oig.hhs.gov/advopn/index.htm.” should read “http://oig.hhs.gov/fraud/advisoryopinions.html”.

[FR Doc. C2-22124 Filed 9-5-02; 8:45 am]

BILLING CODE 1505-01-D

SECURITIES AND EXCHANGE COMMISSION

[Release No. 34-46376; File No. SR-NASD-99-04

Self-Regulatory Organizations; Order Approving Proposed Rule Change and Notice of Filing and Order Granting Accelerated Approval to Amendment No. 2 to the Proposed Rule Change by the National Association of Securities Dealers, Inc. Relating to Microcap Initiative-Recommendation Rule

Correction

In notice document 02-21651 beginning on page 54832 in the issue of Monday, August 26, 2002, make the following correction:

On page 54835, in the second column, in section V. Solicitation of Comments, in the last two lines, “[insert date 21 days from date of publication]” should read “September 16, 2002”.

[FR Doc. C2-21651 Filed 9-5-02; 8:45 am]

BILLING CODE 1505-01-D

DEPARTMENT OF TRANSPORTATION

Federal Aviation Administration

14 CFR Part 71

[Airspace Docket No. 02-ACE-7]

Proposed Modification of Class D Airspace; Knob Noster, Whiteman AFB, MO; and Modification of Class E Airspace; Knob Noster, Whiteman AFB, MO

Correction

In proposed rule document 02-21136 beginning on page 55180 in the issue of Wednesday, August 28, 2002 make the following correction:

§71.1 [Corrected]

On page 55181, in the second column, in § 71.1, under the heading ACE MO E2 Knob Noster, MO [Revised], in the sixth line, “long. 93° 34′ 231″ W.)” should read “long. 93° 34′ 21″ W.)”.

[FR Doc. C2-21136 Filed 9-5-02; 8:45 am]

BILLING CODE 1505-01-D